DEPARTMENT OF TRANSPORTATION

Federal Aviation Administration

14 CFR Part 39

[Docket No. FAA-2012-1180; Directorate Identifier 2012-CE-032-AD; Amendment 39-17539; AD 2013-16-01]

RIN 2120-AA64

Airworthiness Directives; Beechcraft Corporation and Hawker Beechcraft Corporation

AGENCY: Federal Aviation Administration (FAA), DOT.

ACTION: Final rule.

SUMMARY: We are adopting a new airworthiness directive (AD) for certain Beechcraft Corporation (type certificate previously held by Hawker Beechcraft Corporation) Models 58, 95-C55, E55, and 56TC airplanes; and Hawker Beechcraft Corporation Models 58P and 58TC airplanes (both type certificates previously held by Raytheon Aircraft Company). This AD was prompted by reports of elevator balance weights becoming loose or failing because the balance weight material was under strength and did not meet material specifications. This AD requires inspections of elevator balance weights and replacement of defective elevator balance weights. We are issuing this AD to correct the unsafe condition on these products.

DATES: This AD is effective September 24, 2013.

The Director of the Federal Register approved the incorporation by reference of a certain publication listed in the AD as of September 24, 2013.

ADDRESSES: For service information identified in this AD, contact Beechcraft Corporation, B091-A04, 10511 E. Central Ave., Wichita, Kansas 67206; telephone: 1 (800) 429-5372 or (316) 676-3140; fax: (316) 676-8027; email: tmdc@beechcraft.com; or Internet: http://www.beechcraft.com/customer_support/technical_and_field_support. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: T. N. Baktha, Senior Aerospace Engineer, FAA, Wichita ACO, 1801 Airport Road, Room 100, Wichita, Kansas 67209; telephone: (316) 946-4155; fax: (316) 946-4107; email: t.n.baktha@faa.gov.

SUPPLEMENTARY INFORMATION:

Discussion

We issued a notice of proposed rulemaking (NPRM) to amend 14 CFR Part 39 to include an airworthiness directive (AD) that would apply to the specified products. The NPRM (77 FR 66566, November 6, 2012) proposed to require inspections of elevator balance weights and replacement of defective elevator balance weights. We followed the NPRM with a supplemental notice of proposed rulemaking (SNPRM) that published in the Federal Register on May 15, 2013 (78 FR 28540). The SNPRM proposed to prohibit the installation of designated spare parts and to clarify applicability.

Comments

We gave the public the opportunity to participate in developing this AD. We received no comments on the SNPRM (78 FR 28540, May 15, 2013) or on the determination of the cost to the public.

Conclusion

We reviewed the relevant data and determined that air safety and the public interest require adopting this AD as proposed except for minor editorial changes. We have determined that these minor changes:

• Are consistent with the intent that was proposed in the SNPRM (78 FR 28540, May 15, 2013) for correcting the unsafe condition; and

• Do not add any additional burden upon the public than was already proposed in the SNPRM.

Costs of Compliance

We estimate that this AD affects 1,326 airplanes of U.S. registry.

We estimate the following costs to comply with this AD:

Estimated Costs
Action | Labor cost | Parts cost | Cost per product | Cost on U.S. operators
Inspection of the elevator balance weight | .5 work-hour × $85 per hour = $42.50 | Not applicable | $42.50 | $56,355

We estimate the following costs to do any necessary replacements that would be required based on the results of the inspection. We have no way of determining the number of aircraft that might need this replacement:

On-Condition Costs
Action | Labor cost | Parts cost | Cost per product
Replacement of elevator balance weight | 1 work-hour × $85 per hour = $85 | $300 | $385

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR Part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive

(AD): 2013-16-01 Beechcraft Corporation and Hawker Beechcraft Corporation: Amendment 39-17539; Docket No. FAA-2012-1180; Directorate Identifier 2012-CE-032-AD.

(a) Effective Date

This AD is effective September 24, 2013.

(b) Affected ADs

None.

(c) Applicability

This AD applies to Beechcraft Corporation (type certificate previously held by Hawker Beechcraft Corporation) Models 58, 95-C55, E55, and 56TC airplanes; and Hawker Beechcraft Corporation Models 58P and 58TC airplanes, all serial numbers, certificated in any category. Both type certificates previously held by Raytheon Aircraft Company.

(d) Subject

Joint Aircraft System Component (JASC)/Air Transport Association (ATA) of America Code 2730: Elevator Balance Weight.

(e) Unsafe Condition

This AD was prompted by reports of elevator balance weights becoming loose or failing because the balance weight material was under strength and did not meet material specifications. We are issuing this AD to correct this unsafe condition, which could result in reduced flutter speed and lead to loss of control.

(f) Compliance

Comply with paragraphs (g) through (i), including all subparagraphs, of this AD within the compliance times specified, unless already done.

(g) Inspect Maintenance Records

(1) For Model 58 airplanes, serial numbers TH-1768 through TH-2110, before further flight after September 24, 2013 (the effective date of this AD), review the airplane maintenance records to determine if either of the elevator balance weights have ever been replaced. An owner/operator (pilot) holding at least a private pilot certificate is allowed to do this action.

(i) If, as a result of the maintenance records check, you positively identify that one or both of the elevator balance weights have never been replaced, then complete all of the actions in paragraph (h) and (i), all subparagraphs, as applicable in this AD.

(ii) If, as a result of the maintenance records check, you identify both balance weights have been replaced and you can positively identify by means of an Airworthiness Approval Tag (FAA Form 8130-3) or other positive form of parts identification such as a shipping ticket, invoice, or direct ship authority letter, that the purchase date from Hawker Beechcraft Corporation (also known as Raytheon Aircraft Company or Beechcraft Corporation) on both balance weights is outside the date range of January 1, 1996, and December 31, 2005, then no further action is required for this AD.

(iii) For a replaced balance weight, if you cannot positively identify the date of purchase of a balance weight from Hawker Beechcraft Corporation (also known as Raytheon Aircraft Company or Beechcraft Corporation), then you must complete all of the actions in paragraph (h) and (i), all subparagraphs, as applicable in this AD.

(2) For Model 58 airplanes, all serial numbers (except TH-1768 through TH-2110), and Models 58TC, 58P, 95-C55, E55, and 56TC airplanes, all serial numbers, before further flight after September 24, 2013 (the effective date of this AD) review the airplane maintenance records to determine if the elevator balance weights have ever been replaced. An owner/operator (pilot) holding at least a private pilot certificate is allowed to do this action.

(i) If, as a result of the maintenance records check, you positively identify that both of the elevator balance weights have never been replaced, then no further action is required for this AD. An owner/operator (pilot) holding at least a private pilot certificate is allowed to do this action.

(ii) If, as a result of the maintenance records check, you identify that one or both of the balance weights have been replaced and you can positively identify by means of an Airworthiness Approval Tag (FAA Form 8130-3) or other positive form of parts identification such as a shipping ticket, invoice, or direct ship authority letter, that the purchase date from Hawker Beechcraft Corporation (also known as Raytheon Aircraft Company or Beechcraft Corporation) is outside the date range of January 1, 1996, and December 31, 2005, then no further action is required for this AD.

(iii) If you cannot positively identify the date of purchase of an aircraft balance weight from Hawker Beechcraft Corporation (also known as Raytheon Aircraft Company or Beechcraft Corporation), then you must perform all of the actions in paragraph (h) and (i), all subparagraphs, as applicable in this AD.

(h) Inspection of Elevator Balance Weight

Before further flight after September 24, 2013 (the effective date of this AD) and thereafter at intervals not to exceed 100 hours time-in-service (TIS) until the replacement required by this AD is done, inspect the elevator balance weights for looseness, failure, and/or working (smoking) fasteners and inserts following the Accomplishment Instructions paragraph 3.A in Hawker Beechcraft Mandatory Service Bulletin SB 55-4089, Revision 1, dated February, 2012.

(i) Replacement of Elevator Balance Weight

(1) Replace the defective elevator balance weight with an airworthy balance weight as specified in the Accomplishment Instructions paragraph 3.A in Hawker Beechcraft Mandatory Service Bulletin SB 55-4089, Revision 1, dated February, 2012, at either paragraph (i)(1)(i) or (i)(1)(ii) of this AD, whichever occurs first:

(i) Before further flight after any inspection required by paragraph (h) of this AD where any looseness, failure, and/or working (smoking) fasteners and inserts are found; or

(ii) Within the next 200 hours TIS after September 24, 2013 (the effective date of this AD).

(2) Replacement of elevator balance weights with airworthy elevator balance weights terminates the 100-hour inspection requirement in paragraph (h) of this AD.

(3) As of September 24, 2013 (the effective date of this AD), do not install P/N 96-610022, P/N 96-61022-5, P/N 96-610022-7, and P/N 96-610022-9 elevator balance weight assemblies, if originally purchased from Hawker Beechcraft Corporation (also known as Raytheon Aircraft Company or Beechcraft Corporation) between January 1, 1996, and December 31, 2005, on any airplane.

(j) Special Flight Permit

Special flight is permitted with the following limitations: Maximum structural cruising speed (Vno) = Design Speed for maximum gust intensity (Vb) = 195 Knots Calibrated Airspeed (KCAS), or Vno=Vb=195KCAS. This special flight is not allowed into known turbulence, and the duration of this flight should not be more than a total of 10 hours TIS.

(k) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(l) Related Information

For more information about this AD, contact T. N. Baktha, Senior Aerospace Engineer, FAA, Wichita ACO, 1801 Airport Road, Room 100, Wichita, Kansas 67209; telephone: (316) 946-4155; fax: (316) 946-4107; email: t.n.baktha@faa.gov.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Hawker Beechcraft Mandatory Service Bulletin SB 55-4089, Revision 1, dated February, 2012.

(ii) Reserved.

(3) For Beechcraft Corporation and Hawker Beechcraft Corporation service information identified in this AD, contact Beechcraft Corporation, B091-A04, 10511 E. Central Ave., Wichita, Kansas 67206; telephone: 1 (800) 429-5372 or (316) 676-3140; fax: (316) 676-8027; email: tmdc@beechcraft.com; or Internet: http://www.beechcraft.com/customer_support/technical_and_field_support/.

(4) You may view this service information at FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on July 25, 2013.
Earl Lawrence,
Manager, Small Airplane Directorate, Aircraft Certification Service.

[FR Doc. 2013-20098 Filed 8-19-13; 8:45 am]

BILLING CODE 4910-13-P